DEPARTMENT OF TRANSPORTATION

Federal Aviation Administration

[Docket No. FAA-2020-0257]

Agency Information Collection Activities: Requests for Comments; Clearance of a New Approval of Information Collection: Limited Recreational Unmanned Aircraft Operation Applications

AGENCY: Federal Aviation Administration (FAA), DOT.

ACTION: Notice and request for comments.

SUMMARY: In accordance with the Paperwork Reduction Act of 1995, FAA invites public comments about our intention to request Office of Management and Budget (OMB) approval for a new information collection. The collection involves information related to recreational flying under the Exception for Limited Recreational Operations of Unmanned Aircraft. The information collected will be used to recognize Community Based Organizations (CBOs), administer an aeronautical knowledge and safety test, establish fixed flying sites, approve standards and limitations for Unmanned Aircraft Systems (UAS) weighing more than 55 pounds, and designate FAA Recognized Identification Areas (FRIAs).

DATES: Written comments should be submitted by May 12, 2020.

ADDRESSES: Please send written comments:

By Electronic Docket: www.regulations.gov (Enter docket number into search field).

By mail: Dwayne C. Morris, AFS-820, 800 Independence Ave. SW, Washington, DC 20591.

By email: chris.morris@faa.gov.

FOR FURTHER INFORMATION CONTACT: Kevin Morris by email at: kevin.morris@faa.gov; phone: (202) 267-1078.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Limited Recreational Unmanned Aircraft Operation Applications.

Form Numbers: Online collection.

Type of Review: New information collection.

Background: In 2018, Congress passed the FAA Reauthorization Act of 2018 (Pub. L. 115-254). Section 44809 of Public Law 115-254 allows a person to operate a small unmanned aircraft (UA) without specific certification or operating authority from the FAA if the operation adheres to certain limitations. These limitations require the FAA to recognize community-based organizations (CBOs), develop and administer an aeronautical knowledge and safety test, establish fixed flying sites, approve standards and limitations for unmanned aircraft weighing more than 55 pounds, and designate FAA Recognized Identification Areas (FRIAs).

The information will be collected online, through the FAA's DroneZone website. The information collected will be limited to only that necessary for the FAA to complete a review of an application under the following statutory requirements:

• § 44809(c)(1), Operations at Fixed Sites

• § 44809(c)(2)(a), Standards and Limitations—UA Weighing More Than 55 Pounds

• § 44809(c)(2)(b), Operations at Fixed Sites—UA Weighing More Than 55 Pounds

• § 44809(g)(1), Aeronautical Knowledge and Safety Test

• § 44809(i), Recognition of Community-Based Organizations

Respondents: Individuals and organizations operating under the Exception for Limited Recreational Operations of Unmanned Aircraft who wish to be recognized as CBOs, administer the aeronautical knowledge and safety test, establish fixed flying sites, have standards and limitations for unmanned aircraft weighing more than 55 pounds approved, and establish designated FRIAs.

Frequency: On occasion.

Estimated Average Burden per Response: Varies depending on the type of stakeholder application. Fixed flying site applications (including more than 55 pound UAS and FRIA) are estimated to take 0.5 hours per applicant. CBO recognition and more than 55 pound UAS standards and limitations applications are estimated to take 1.0 hours per applicant.

Estimated Total Annual Burden: Varies depending on the type of stakeholder application. CBO recognition and more than 55 pound UAS standards and limitations applications are not recurring, resulting in a one-time annual burden of 1 hour per application. Fixed flying site applications are required to be updated/renewed annually, resulting in a total annual burden of 0.5 hours per year.

The FAA estimates 25 CBO recognition/more than 55 pound UAS standards and limitations applications in the first year, totaling 25 hours. Fixed flying site applications (including more than 55 pound UAS and FRIA) are expected to number around 200 applications per year, totaling 100 hours.

Issued in Washington, DC, on March 10, 2020.
Dwayne C. Morris,
Project Manager, Flight Standards Service, General Aviation and Commercial Division.

[FR Doc. 2020-05133 Filed 3-12-20; 8:45 am]

BILLING CODE 4910-13-P